NUCLEAR REGULATORY COMMISSION

10 CFR Part 72

RIN 3150-AJ40

[NRC-2014-0102]

List of Approved Spent Fuel Storage Casks: Holtec International HI-STORM FLOOD/WIND System; Certificate of Compliance No. 1032, Amendment No. 1

AGENCY: Nuclear Regulatory Commission.

ACTION: Direct final rule; confirmation of effective date.

SUMMARY: The U.S. Nuclear Regulatory Commission (NRC) is confirming the effective date of December 17, 2014, for the direct final rule that was published in the Federal Register on October 3, 2014. This direct final rule amended the NRC's spent fuel storage regulations by revising the Holtec International HI-STORM FLOOD/WIND (FW) System listing within the “List of approved spent fuel storage casks” to include Amendment No. 1 to Certificate of Compliance (CoC) No. 1032.

DATES: The effective date of December 17, 2014, for the direct final rule published October 3, 2014 (79 FR 59623), is confirmed.

ADDRESSES: Please refer to Docket ID NRC-2014-0102 when contacting the NRC about the availability of information for this action. You may obtain publicly-available information related to this action by any of the following methods:

• Federal Rulemaking Web Site: Go to: http://www.regulations.gov and search for Docket ID NRC-2014-0102. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at: http://www.nrc.gov/reading-rm/adams.html. To begin the search, select “ADAMS Public Documents” and then select “Begin Web-based ADAMS Search.” For problems with ADAMS, please contact the NRC's Public Document Room (PDR) reference staff at 1-800-397-4209, 301-415-4737, or by email to: pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Gregory Trussell, Office of Nuclear Material Safety and Safeguards, U.S. Nuclear Regulatory Commission, Washington, DC 20555-0001; telephone: 301-415-6445, email: Gregory.Trussell@nrc.gov.

SUPPLEMENTARY INFORMATION: On October 3, 2014 (79 FR 59623), the NRC published a direct final rule amending its regulations in part 72 of Title 10 of the Code of Federal Regulations by revising the Holtec International HI-STORM FW System listing within the “List of approved spent fuel storage casks” to include Amendment No. 1 to CoC No. 1032. In the direct final rule, the NRC stated that if no significant adverse comments were received, the direct final rule would become final on December 17, 2014. The NRC did not receive any comments on the direct final rule. Therefore, this direct final rule will become effective as scheduled.

Dated at Rockville, Maryland, this 11th day of December, 2014.
For the U.S. Nuclear Regulatory Commission.
Cindy Bladey,
Chief, Rules, Announcements, and Directives Branch, Division of Administrative Services, Office of Administration.

[FR Doc. 2014-29427 Filed 12-15-14; 8:45 am]

BILLING CODE 7590-01-P